DEPARTMENT OF LABOR

Office of the Secretary

Privacy Act of 1974; Publication in Full of All Notices of Systems of Records, Including Several New Systems, Substantive Amendments to Existing Systems, Decommissioning of Obsolete Legacy Systems, and Publication of Proposed Routines Uses

AGENCY: Office of the Secretary, Labor.

ACTION: Notice: Postponement of the effective date of the Department's April 29, 2016 System of Records Notice to July 23, 2016.

SUMMARY: This notice announces a one month postponement of the effective date of the Department of Labor's Systems of Records Notice, which was published on April 29, 2016 with an effective date of June 23, 2016. In order to address public comments received on this System of Records Notice, the Department is postponing the effective date to July 23, 2016.

DATES: The effective date for the Department's System of Records Notice is postponed to July 23, 2016. Unless there is a further notice in the Federal Register, these proposed 21 new systems of records and 108 amended systems of records and decommissioned 43 existing systems of records, as well as the two new routine uses, will become effective on July 23, 2016.

FOR FURTHER INFORMATION CONTACT: Written comments may be sent to Joseph J. Plick, Counsel for FOIA and Information Law, Office of the Solicitor, Department of Labor, 200 Constitution Avenue NW., Room N-2420, Washington, DC 20210, telephone (202) 693-5527, or by email to plick.joseph@dol.gov.

SUPPLEMENTARY INFORMATION: On April 29, 2016, the Department of Labor issued a Publication In Full of All Notices of Systems of Records, including several new systems; substantive amendments to systems; decommissioning of obsolete legacy systems; and publication of new universal routine uses for all system of records. The Department received several public comments and one agency comment on this System of Records Notice during the public comment period, which ended June 8, 2016. The Department requires additional time to review and address the comments, including publishing a response and, if warranted, revising the System of Records Notice. In order to complete this process, the Department is postponing the effective date of the System of Records Notice. The new effective date will be July 23, 2016.

Signed at Washington, DC, this 15th day of June 2015.
Thomas E. Perez,
Secretary of Labor.

[FR Doc. 2016-14624 Filed 6-20-16; 8:45 am]

BILLING CODE 4510-HL-P